DEPARTMENT OF VETERANS AFFAIRS

[OMB Control No. 2900-NEW]

Agency Information Collection Activity: Longitudinal Investigation of Gender, Health and Trauma (LIGHT) Survey

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice.

DATES: Written comments and recommendations on the proposed collection of information should be received on or before October 10, 2017.

ADDRESSES: Submit written comments on the collection of information through Federal Docket Management System (FDMS) at www.Regulations.gov or to Brian McCarthy, Office of Regulatory and Administrative Affairs (10B4), Department of Veterans Affairs, 810 Vermont Avenue NW., Washington, DC 20420 or email to Brian.McCarthy4@va.gov. Please refer to “OMB Control No. 2900-NEW” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Under 38 U.S.C., Part I, Chapter 5, Section 527.

Title: Longitudinal Investigation of Gender, Health and Trauma (LIGHT) Survey.

OMB Control Number: 2900-NEW.

Type of Review: New Collection.

Abstract: The purpose of this study is to understand the cumulative effects of lifetime exposure to trauma and ongoing exposure to trauma such as community and intimate partner violence on Veterans' mental and physical health, including its impact on the reproductive health of Veterans. To implement this research, VHA and entities working on behalf of VHA will conduct a nationwide longitudinal survey of Veterans residing in communities with varying levels of crime. Specifically, this longitudinal study will involve surveying Veterans regarding their life experiences, experiences within their neighborhood, mental health symptomatology, physical health, reproductive health, mental health service use, social support, and coping style three times over the course of approximately 1 year. We will contact a random sample of 14,000 Veterans (11,000 female and 3,000 male) between the ages of 18 and 45 obtained from VA DoD Identity Repository (VADIR) to invite them to participate in this study, with the ultimate goal of achieving a baseline sample of ~4,000 Veterans (~3,000 female and ~1,000 male). Given our primary aim to examine the role of community violence on outcomes, we will oversample for residency in high crime communities using zip codes to ensure that individuals living in these areas are invited to participate and are, therefore, represented in the study sample. We will also oversample rural communities using zip codes. Finally, as we are explicitly interested in under-represented populations in the larger Veteran population, we will also oversample racial minorities. Our response rate target for the survey is ~30%, which is consistent with other recent surveys of the Veteran population. After adjusting for potentially unusable or ineligible records (estimated at ~8%), we predict ~4,000 will complete the study.

Affected Public: Individuals and households.

Estimated Annual Burden:

Time 1 Survey: 3,000 hours.

Time 2 Survey: 3,000 hours.

Time 3 Survey: 3,000 hours.

Estimated Average Burden Per Respondent:

Time 1 Survey: 45 minutes.

Time 2 Survey: 45 minutes.

Time 3 Survey: 45 minutes.

Frequency of Response: Annually.

Estimated Number of Respondents:

Time 1 Survey: 4,000.

Time 2 Survey: 4,000.

Time 3 Survey: 4,000.

By direction of the Secretary.
Cynthia Harvey-Pryor,
Department Clearance Officer, Office of Quality and Compliance, Department of Veterans Affairs.

[FR Doc. 2017-16680 Filed 8-7-17; 8:45 am]

BILLING CODE 8320-01-P